NATIONAL COUNCIL ON DISABILITY

Sunshine Act Meetings

TYPE: Quarterly Meeting.

DATES AND TIMES: November 29, 2007, 8:30 a.m.-5 p.m.

November 30, 2007, 8:30 a.m.-3:45 p.m.

December 1, 2007, 8:15 a.m.-11:15 a.m.

LOCATION: Hyatt Regency Boston, One Avenue de LaFayette, Boston, Massachusetts.

STATUS: November 29, 2007, 8:30 a.m.-5 p.m.—Open.

November 30, 2007, 8:30 a.m.-3:45 p.m.—Open.

December 1, 2007, 8:15 a.m.-11:15 a.m.—Open.

December 1, 2007, 11:15 a.m.-12 noon—Closed Executive Session.

AGENDA: Public Comment Sessions; Emergency Preparedness Panel Discussion; Accessibility and Universal Design Panel Discussion; Youth Transition Presentations; Wounded Warriors Presentation; Reports from the Chairperson, Council Members, and the Executive Director; Strategic Planning; Budget Planning; Unfinished Business; New Business; Announcements; Adjournment.

SUNSHINE ACT MEETING CONTACT: Mark S. Quigley, Director of Communications, NCD, 1331 F Street, NW., Suite 850, Washington, DC 20004; 202-272-2004 (voice), 202-272-2074 (TTY), 202-272-2022 (fax).

Agency Mission: NCD is an independent federal agency and is composed of 15 members appointed by the President, by and with the advice and consent of the Senate. NCD provides advice to the President, Congress, and executive branch agencies promoting policies, programs, practices, and procedures that (A) guarantee equal opportunity for all individuals with disabilities, regardless of the nature or severity of the disability; and (B) to empower individuals with disabilities to achieve economic self-sufficiency, independent living, and inclusion and integration into all aspects of society.

Accommodations: Those needing reasonable accommodations should notify NCD immediately.

Language Translation: In accordance with E.O. 13166, Improving Access to Services for Persons with Limited English Proficiency, those people with disabilities who are limited English proficient and seek translation services for these meetings should notify NCD immediately.

Dated: November 16, 2007.
Michael C. Collins,
Executive Director.

[FR Doc. 07-5839 Filed 11-21-07; 11:12 am]

BILLING CODE 6820-MA-P